DEPARTMENT OF COMMERCE

International Trade Administration

[C-570-938]

Citric Acid and Certain Citrate Salts From the People's Republic of China: Notice of Countervailing Duty Order

AGENCY: Import Administration, International Trade Administration, Department of Commerce.

SUMMARY: Based on affirmative final determinations by the Department of Commerce (the Department) and the International Trade Commission (“ITC”), the Department is issuing a countervailing duty order on citric acid and certain citrate salts (“citric acid”) from the People's Republic of China (“PRC”). On May 22, 2009, the ITC notified the Department of its affirmative determination of material injury to a U.S. industry. See Citric Acid and Certain Citrate Salts from Canada and China, USITC Pub. 4076, Investigation Nos. 701-TA-456 and 731-TA-1151-1152 (Final) (May 2009).

DATES: Effective Date: May 29, 2009.

FOR FURTHER INFORMATION CONTACT: David Neubacher or Shelly Atkinson, AD/CVD Operations, Office 1, Import Administration, International Trade Administration, U.S. Department of Commerce, 14th Street and Constitution Avenue, NW., Washington, DC 20230; telephone: (202) 482-5823 and (202) 482-0116, respectively.

Background

On April 13, 2009, the Department published its final determination in the countervailing duty investigation of citric acid from the PRC. See Citric Acid and Certain Citrate Salts From People's Republic of China: Final Affirmative Countervailing Duty Determination, 74 FR 16836 (April 13, 2009).

On May 22, 2009, the ITC notified the Department of its final determination pursuant to section 705(b)(1)(A)(i) of the Tariff Act of 1930, as amended (“the Act”), that an industry in the United States is materially injured by reason of subsidized imports of subject merchandise from the PRC. See Citric Acid and Certain Citrate Salts from Canada and China, USITC Pub. 4076, Investigation Nos. 701-TA-456 and 731-TA-1151-1152 (Final) (May 2009).

Scope of the Order

The scope of this order includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend. The scope of this order also includes all forms of crude calcium citrate, including dicalcium citrate monohydrate, and tricalcium citrate tetrahydrate, which are intermediate products in the production of citric acid, sodium citrate, and potassium citrate. The scope of this order does not include calcium citrate that satisfies the standards set forth in the United States Pharmacopeia and has been mixed with a functional excipient, such as dextrose or starch, where the excipient constitutes at least 2 percent, by weight, of the product. The scope of this order includes the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (“HTSUS”), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, the written description of the merchandise is dispositive.

Countervailing Duty Order

On May 22, 2009, in accordance with section 705(d) of the Act, the ITC notified the Department of its final determination that the industry in the United States producing citric acid is materially injured within the meaning of section 705(b)(1)(A)(i) of the Act by reason of subsidized imports of citric acid from the PRC.

Therefore, countervailing duties will be assessed on all unliquidated entries of citric acid from the PRC entered, or withdrawn from warehouse, for consumption on or after September 19, 2008, the date on which the Department published its preliminary affirmative countervailing duty determination in the Federal Register,¹ and before January 17, 2009, the date the Department instructed U.S. Customs and Border Protection (“CBP”) to discontinue the suspension of liquidation in accordance with section 703(d) of the Act. Section 703(d) of the Act states that the suspension of liquidation pursuant to a preliminary determination may not remain in effect for more than four months. Therefore, entries of citric acid made on or after January 17, 2009, and prior to the date of publication of the ITC's final determination in the Federal Register are not liable for the assessment of countervailing duties due to the Department's discontinuation, effective January 17, 2009, of the suspension of liquidation.

¹ See Citric Acid and Certain Citrate Salts From the People's Republic of China: Preliminary Affirmative Countervailing Duty Determination and Alignment of Final Countervailing Duty Determination With Final Antidumping Duty Determination, 73 FR 54367 (September 19, 2008).

In accordance with section 706 of the Act, the Department will direct CBP to reinstitute the suspension of liquidation for citric acid from the PRC, effective the date of publication of the ITC's notice of final determination in the Federal Register and to assess, upon further advice by the Department pursuant to section 706(a)(1) of the Act, countervailing duties for each entry of the subject merchandise in an amount based on the net countervailable subsidy rates for the subject merchandise as noted below.

Exporter/Manufacturer | Net subsidy rate (percent)
TTCA Co., Ltd. (a.k.a. Shandong TTCA Biochemistry Co., Ltd.) | 12.68
Yixing Union Biochemical Co., Ltd.; and Yixing Union Cogeneration Co., Ltd. | 3.60
Anhui BBCA Biochemical Co., Ltd. | 118.95
All-Others | 8.14

This notice constitutes the countervailing duty order with respect to citric acid from the PRC, pursuant to section 706(a) of the Act. Interested parties may contact the Department's Central Records Unit, Room 1117 of the main Commerce Building, for copies of an updated list of countervailing duty orders currently in effect.

This order is issued and published in accordance with section 706(a) of the Act and 19 CFR 351.211(b).

Dated: May 26, 2009.
Ronald K. Lorentzen,
Acting Assistant Secretary for Import Administration.

[FR Doc. E9-12642 Filed 5-28-09; 8:45 am]

BILLING CODE 3510-DS-P